DEPARTMENT OF THE INTERIOR

National Park Service

Notice of Inventory Completion: Kingman Museum, Incorporated, Battle Creek, MI

AGENCY: National Park Service, Interior.

ACTION: Notice.

Notice is here given in accordance with the Native American Graves Protection and Repatriation Act (NAGPRA), 25 U.S.C. 3003, of the completion of an inventory of human remains in the possession of Kingman Museum, Incorporated, Battle Creek, MI. The human remains were removed from Jemez Indian Reservation, Sandoval County, NM.

This notice is published as part of the National Park Service's administrative responsibilities under NAGPRA, 25 U.S.C. 3003 (d)(3). The determinations in this notice are the sole responsibility of the museum, institution, or Federal agency that has control of the Native American human remains. The National Park Service is not responsible for the determinations in this notice.

Prior to 2000, a detailed assessment of the human remains was made by Kingman Museum of Natural History professional staff in consultation with representatives of the Pueblo of Jemez, New Mexico. The U.S. Department of the Interior, Bureau of Indian Affairs does not exert control over the human remains in this notice.

On September 17, 2002, Calhoun County Probate Court transferred the public trust for Kingman Memorial Museum of Natural History from Battle Creek Public Schools to Kingman Museum, Incorporated, a private, nonprofit 501(c)(3) charitable organization. In April of 2006, collection ownership was transferred from the Battle Creek Public Schools to Kingman Museum, Incorporated.

At an unknown date, human remains representing a minimum of one individual were removed from the Jemez Indian Reservation, NM. It is unknown how the human remains were obtained, as no catalog number was assigned by the Kingman Museum of Natural History. No known individual was identified. No associated funerary objects are present.

Papers located with the human remains indicate they belong to the Pueblo of Jemez. The original box in which the human remains were stored is lost. The cultural affiliation of the human remains is based upon geographical location determined from the papers accompanying the human remains. Based on museum records and geographical information, officials of the Kingman Museum, Incorporated reasonably believe that the human remains are Native American and culturally affiliated with the Pueblo of Jemez, New Mexico.

Officials of Kingman Museum, Incorporated have determined that, pursuant to 25 U.S.C. 3001(9-10), the human remains described above represent the physical remains of a minimum of one individual of Native American ancestry. Officials of Kingman Museum, Incorporated also have determined that, pursuant to 25 U.S.C. 3001(2), there is a relationship of shared group identity that can be reasonably traced between the Native American human remains and the Pueblo of Jemez, New Mexico.

Representatives of any other Indian tribe that believes itself to be culturally affiliated with the human remains should contact Katie Nelson, Collection Manager, Kingman Museum, Incorporated, 175 Limit Street, Battle Creek, MI 49037, telephone (269) 965-5117, before May 19, 2008. Repatriation of the human remains to the Pueblo of Jemez, New Mexico may proceed after that date if no additional claimants come forward.

Kingman Museum, Incorporated is responsible for notifying the Pueblo of Jemez, New Mexico that this notice has been published.

Dated: March 5, 2008.
Sherry Hutt,
Manager, National NAGPRA Program.

[FR Doc. E8-8292 Filed 4-16-08; 8:45 am]

BILLING CODE 4312-50-S